DEPARTMENT OF COMMERCE

Submission for OMB Review; Comment Request

The Department of Commerce (DOC) will submit to the Office of Management and Budget (OMB) for clearance the following proposal for collection of information under the emergency provisions of the Paperwork Reduction Act (44 U.S.C. Chapter 35).

Agency: Bureau of Industry and Security (BIS).

Title: Thermal Imaging Camera Reporting.

Agency Form Number: None.

OMB Approval Number: None.

Type of Request: Emergency submission.

Burden Hours: 60.

Average Time Per Response: 1 hour.

Number of Respondents: 30.

Needs and Uses: The U.S. Government (USG) is removing the export licensing requirement for certain thermal imaging cameras to certain destinations. A new biannual reporting requirement will be imposed to allow the USG to verify that the cameras are continuing to be sold to appropriate end-users and that the relaxation in controls is not jeopardizing U.S. national security or foreign policy interests.

Affected Public: Businesses or other for-profit institutions.

Frequency: Biannually.

Respondents Obligation: Required to obtain or retain benefits.

OMB Desk Officer: David Rostker, (202)395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent by June 15, 2007 to David Rostker, OMB Desk Officer, David_Rostker@omb.eop.gov, or Fax number, (202) 395-7285.

Dated: May 3, 2007.
Gwellnar Banks,
Management Analyst, Office of the Chief Information Officer.

[FR Doc. E7-8836 Filed 5-8-07; 8:45 am]

BILLING CODE 3510-DT-P